DEPARTMENT OF ENERGY

Notice of Intent to Prepare an Environmental Impact Statement for Decommissioning and/or Long-Term Stewardship at the West Valley Demonstration Project and Western New York Nuclear Service Center

AGENCY: Department of Energy.

ACTION: Notice of Intent.

SUMMARY: The U.S. Department of Energy (DOE) and the New York State Energy Research and Development Authority (NYSERDA) are announcing their intent to prepare an Environmental Impact Statement (EIS) for Decommissioning and/or Long-Term Stewardship at the West Valley Demonstration Project (WVDP) and Western New York Nuclear Service Center (also known as the “Center”). The U.S. Nuclear Regulatory Commission (NRC), the U.S. Environmental Protection Agency (EPA), and the New York State Department of Environmental Conservation (NYSDEC) will participate as cooperating agencies under the National Environmental Policy Act (NEPA, 42 U.S.C. 4321 et seq.). In addition, NYSDEC will participate as an involved agency under the New York State Environmental Quality Review Act (SEQRA) with respect to NYSERDA's proposed actions. DOE, under NEPA, and NYSERDA, under SEQRA, plan to evaluate the range of reasonable alternatives in this EIS to address their respective responsibilities at the Center, including those under the West Valley Demonstration Project Act (Pub. L. 96-368), Atomic Energy Act of 1954 (as amended), and all other applicable Federal and State statutes.

This EIS will revise the Draft Environmental Impact Statement for Completion of the West Valley Demonstration Project and Closure or Long-Term Management of Facilities at the Western New York Nuclear Service Center (DOE/EIS-0226-D, January 1996, also referred to as the 1996 Cleanup and Closure Draft EIS). Based on decommissioning criteria for the WVDP issued by NRC since the Cleanup and Closure EIS was published, DOE and NYSERDA propose to evaluate five alternatives: Unrestricted Site Release, Partial Site Release without Restrictions, Partial Site Release with Restrictions, Monitor and Maintain under Current Operations, and No-Action.

DATES: DOE and NYSERDA are inviting public comments on the scope and content of the Decommissioning and/or Long-Term Stewardship EIS during a public comment period commencing with the date of publication of this Notice and ending on April 28, 2003. DOE and NYSERDA will hold two public scoping meetings on the EIS at the Ashford Office Complex, located at 9030 Route 219 in the Town of Ashford, NY, from 7 to 9:30 p.m. on April 9, 2003 and April 10, 2003.

ADDRESSES: Address comments on the scope of the Decommissioning and/or Long-Term Stewardship EIS to the DOE Document Manager: Mr. Daniel W. Sullivan, West Valley Demonstration Project, U.S. Department of Energy, WV-49, 10282 Rock Springs Road, West Valley, New York 14171, Telephone: (800) 633-5280, Facsimile: (716) 942-4199, E-mail: sonja.allen@wvnsco.com.

The “Public Reading Rooms” section under SUPPLEMENTARY INFORMATION lists the addresses of the reading rooms where documents referenced herein are available.

FOR FURTHER INFORMATION, CONTACT: For information regarding the WVDP or the EIS, contact Mr. Daniel Sullivan as described above. Those seeking general information on DOE's NEPA process should contact: Ms. Carol M. Borgstrom, (EH-42), Director, Office of NEPA Policy and Compliance, U.S. Department of Energy, 1000 Independence Avenue, SW., Washington, DC 20585, Telephone: (202) 586-4600, Facsimile: (202) 586-7031, or leave a message at 1-800-472-2756, toll-free.

Questions for NYSERDA should be directed to: Mr. Paul J. Bembia, New York State Energy Research and Development Authority, 10282 Rock Springs Road, West Valley, New York 14171, Telephone: (716) 942-4900, Facsimile: (716) 942-2148, E-mail: pjb@nyserda.org.

Those seeking general information on the SEQRA process should contact: Mr. Hal Brodie, Deputy Counsel, New York State Energy Research and Development Authority, 17 Columbia Circle, Albany, New York 12203-6399, Telephone: (518) 862-1090, ext. 3280, Facsimile: (518) 862-1091, E-mail: hb1@nyserda.org.

This Notice of Intent will be available on the internet at http://tis.eh.doe.gov/nepa, under “What's New.” Additional information about the WVDP is also available on the internet at http://www.wv.doe.gov/linkingpages/insidewestvalley.htm.

SUPPLEMENTARY INFORMATION: DOE and NYSERDA intend to prepare a revised draft Environmental Impact Statement (EIS) for Decommissioning and/or Long-Term Stewardship at the WVDP and Western New York Nuclear Service Center to examine the potential environmental impacts of the proposed action to decommission and/or maintain long-term stewardship at the Center. The NRC, the EPA, and NYSDEC will participate as cooperating agencies under NEPA. NYSDEC will also participate as an involved agency under SEQRA with respect to NYSERDA's proposed actions. DOE, under NEPA, and NYSERDA, under SEQRA, plan to evaluate the range of reasonable alternatives in this EIS to address their respective responsibilities at the Center, including those under the WVDP Act, Atomic Energy Act of 1954 (as amended), and all other applicable Federal and State statutes.

Background

The Western New York Nuclear Service Center consists of a 3,345-acre reservation in rural western New York that is the location of the only NRC-licensed commercial spent nuclear fuel reprocessing facility to have ever operated in the United States. Reprocessing operations resulted in the generation of approximately 600,000 gallons of liquid high-level waste (HLW), which was stored in large underground tanks adjacent to the reprocessing facility. NYSERDA holds title to the Center on behalf of the people of the State of New York. (See H. Rep. No. 96-1000 at 4 (1980) reprinted in 1980 U.S.S.C.A.N 3102, 3103.)

The WVDP Act of 1980 required DOE to solidify the HLW, transport it to a Federal geologic repository, dispose of the low-level waste (LLW) and transuranic (TRU) waste generated from Project activities, and decontaminate and decommission the facilities used for the Project. The Act also authorized NRC to prescribe decommissioning criteria for the WVDP. The NRC has placed NYSERDA's NRC site license in abeyance during DOE's fulfillment of its WVDP Act requirements.

Pursuant to the WVDP Act, on October 1, 1980, DOE and NYSERDA entered into a Cooperative Agreement (amended September 19, 1981) that established a framework for the implementation of the Project. Under the agreement, NYSERDA has made available to DOE, without transfer of title, an approximately 200-acre portion of the Center, known as the “Project Premises,” which includes a formerly operated spent nuclear fuel reprocessing plant, spent nuclear fuel receiving and storage area, underground liquid HLW storage tanks, and a liquid LLW treatment facility with associated lagoons, as well as other facilities. Most of the facilities on the Project premises were radioactively contaminated from reprocessing operations and are located on a geographic area of the Center known as the North Plateau. Among the other facilities located within the Project Premises is a radioactive waste disposal area known as the NRC-licensed disposal area (NDA). Adjacent to the Project Premises is a radioactive waste disposal area known as the State Licensed Disposal Area (SDA) for which NYSERDA has operational responsibility. Both the NDA and SDA are located on the South Plateau geographic area of the Center.

In 1987, DOE agreed, in a Stipulation of Compromise settling a lawsuit filed by local citizens, to evaluate the feasibility of onsite disposal of LLW generated as a result of Project activities in a Cleanup and Closure EIS, and to initiate the EIS process by the end of calendar year 1988. DOE and NYSERDA jointly issued the resulting Draft EIS for Completion of the West Valley Demonstration Project and Closure or Long-Term Management of Facilities at the Western New York Nuclear Service Center (DOE/EIS-0226-D, also known as the “Cleanup and Closure EIS”) in 1996. The Cleanup and Closure draft EIS evaluated a range of alternatives that included a broad scope of waste management and decontamination/decommissioning activities. However, the draft EIS did not identify a preferred alternative.

In 2001, DOE revised its NEPA strategy to continue its EIS process in order to complete its obligations under the WVDP Act. DOE announced that it would prepare a separate EIS to address decontamination and near-term waste management activities for which it is solely responsible under the Act (66 FR 16647, March 26, 2001). In addition, DOE and NYSERDA would jointly prepare a second EIS for decommissioning and/or long-term stewardship to address activities for which each party is responsible. After considering public comments on the March 26, 2001, NOI and new information identified under “New Information to be Evaluated” below, DOE believes the scopes of both EISs should be further modified as follows. The first EIS, the West Valley Waste Management EIS, would address actions pertaining to waste accumulated in storage on site as a result of past Project activities as well as waste to be generated in the near term. The second EIS, this decommissioning and/or long-term stewardship EIS, would analyze various decommissioning and/or long-term stewardship alternatives and would include decontamination as well. It would also include the management of wastes generated by decommissioning and/or long-term stewardship actions. Because this second EIS addresses strategies that may be used to complete the WVDP and disposition the Center, DOE now intends that this EIS would replace the 1996 Cleanup and Closure EIS. (DOE issued an Advance Notice of Intent inviting preliminary public input to the scope of this EIS on November 6, 2001 [66 FR 56090].)

On February 1, 2002, the NRC published in the Federal Register (67 FR 5003) its Decommissioning Criteria for the West Valley Demonstration Project (M-32) at the West Valley Site; Final Policy Statement. The NRC decided that it would apply its License Termination Rule (10 CFR 20, Subpart E) as the decommissioning criteria for the WVDP and the decommissioning goal for the entire NRC-licensed site. The NRC intends to use this West Valley EIS to evaluate the environmental impacts of the various alternatives before deciding whether to accept the preferred alternative as meeting the criteria permitted by the License Termination Rule.

Purpose and Need for Action

DOE is required by the WVDP Act to decontaminate and decommission the tanks and facilities used in the solidification of the HLW, and any material and hardware used in connection with the WVDP, in accordance with such requirements as the NRC may prescribe. The NRC has prescribed its License Termination Rule as the decommissioning criteria for the WVDP. Therefore, DOE needs to determine the manner that facilities, materials, and hardware for which the Department is responsible are managed or decommissioned, in accordance with applicable Federal and State requirements. To this end, DOE needs to determine what, if any, material or structures for which it is responsible will remain on site, and what, if any, institutional controls, engineered barriers, or stewardship provisions would be needed.

NYSERDA needs to determine the manner that facilities and property for which NYSERDA is responsible, including the State-Licensed Disposal Area, will be managed or decommissioned, in accordance with applicable Federal and State requirements. To this end, NYSERDA needs to determine what, if any, material or structures for which it is responsible will remain on site, and what, if any, institutional controls, engineered barriers, or stewardship provisions would be needed. It is NYSERDA's intent to pursue termination of the existing 10 CFR Part 50 license for the Western New York Nuclear Service Center (currently held in abeyance) upon DOE's completion of decontamination and decommissioning under the WVDP Act in accordance with criteria prescribed by the NRC. NYSERDA plans to use the analysis of alternatives in the Decommissioning and/or Long-Term Stewardship EIS to support any necessary NRC or NYSDEC license or permit applications.

Areas of Disagreement With Respect to Responsibilities

DOE and NYSERDA currently do not agree on their respective responsibilities, including whether DOE is required under the WVDP Act to remediate the North Plateau groundwater plume and decommission the NDA, and which party is responsible for any long-term stewardship following the decommissioning actions required under the WVDP Act.

In accordance with their respective applicable legal requirements, DOE and NYSERDA each have unilateral decision-making authority for those actions for which they are responsible. DOE will determine the manner in which it will decommission Project facilities as required under the WVDP Act. NYSERDA will determine the manner in which non-Project facilities, not required to be decommissioned under the WVDP Act, will be managed.

Potential Range of Alternatives

DOE and NYSERDA intend to use the NRC's License Termination Rule and associated guidance provided in the NRC's Final Policy Statement as the framework to evaluate possible alternatives for decommissioning and/or long-term stewardship actions involving WVDP facilities, as well as decommissioning and/or long-term stewardship actions involving NYSERDA-controlled facilities and areas on the Center. In the Final Policy Statement, the NRC recognized that it does not have the regulatory authority to apply the License Termination Rule to the SDA, and said that a cooperative approach with the State will be utilized to the extent practical to apply the License Termination Rule in a coordinated manner.

As required by NEPA, the EIS will present the environmental impacts associated with the range of reasonable alternatives to meet DOE's and NYSERDA's purposes and needs for action, and a no-action alternative. This range encompasses release of the Center for re-use under unrestricted and restricted conditions as allowed under the License Termination Rule. The EIS will present the health and environmental consequences of the alternatives in comparable form to provide a clear basis for informed decision making. DOE's and NYSERDA's preferred alternative will be identified in the Draft EIS. This Draft EIS will also include an evaluation of whether the alternatives would meet the NRC decommissioning criteria and other applicable requirements.

Alternative 1—Unrestricted Site Release

DOE and NYSERDA intend to evaluate an alternative that could satisfy the License Termination Rule criteria and permit termination of NYSERDA's NRC license without restrictions. DOE and NYSERDA are proposing that this alternative involve removal of WVDP and non-WVDP wastes, structures, and contaminated soils to the extent required so that the radiological criteria specified in 10 CFR 20.1402 can be met for Project and non-Project facilities and the balance of the 3,345-acre Center. This alternative includes exhumation and offsite disposal of waste and contaminated soils from the NDA and SDA on the South Plateau.

DOE and NYSERDA intend to evaluate the need for new onsite interim waste storage capacity under Alternative 1 for some waste types, such as Greater-Than-Class C waste, that may not be able to be disposed of in a time frame that would support timely implementation of this EIS alternative. Such an interim storage facility would remain under institutional control until the waste it contains is removed from the site. Following implementation of this alternative, including removal of any wastes in interim storage, the Center could be released without restrictions.

Alternative 2—Partial Site Release without Restrictions

DOE and NYSERDA intend to evaluate an alternative that could satisfy the radiological criteria specified in 10 CFR 20.1402 for facilities and areas on the North Plateau geographic area of the Center, including the North Plateau groundwater plume, as well as the balance of the 3,345-acre Center, with the exception of the NDA and SDA. This would include removal of WVDP and non-WVDP wastes, structures, and contaminated soils to the extent required so that the radiological criteria specified in 10 CFR 20.1402 can be met for the North Plateau. Appropriate infiltration controls would be evaluated for the NDA and the SDA. The NDA and SDA on the South Plateau would not be released but would be managed, monitored, and maintained under permit, license, or other appropriate regulatory oversight. With the exception of the NDA and SDA, the WVDP Project Premises and Center could be released without restrictions. DOE and NYSERDA also intend to evaluate the need for new onsite interim waste storage that may be required to support timely completion of this alternative.

Alternative 3—Partial Site Release with Restrictions

DOE and NYSERDA intend to evaluate an alternative that may permit release with restrictions of portions of the North Plateau geographic area and the balance of the 3,345-acre Center, with the exception of the NDA and SDA. DOE and NYSERDA are proposing that this alternative involve removal of wastes and structures to the extent technically and economically practical so that the radiological criteria specified in 10 CFR 20.1403 can be met for the North Plateau. This would involve in-place closure of the Process Building, Vitrification Facility, HLW Tank Farm, wastewater treatment facility lagoons, and the North Plateau contaminated groundwater plume in a manner that is protective of public health, safety, and the environment. Other ancillary North Plateau facilities would be removed. Appropriate infiltration controls would be evaluated for the NDA and the SDA. The application of institutional controls and engineered barriers would be required and evaluated. The NDA and SDA on the South Plateau would not be released but would be managed, monitored, and maintained under permit, license, or other appropriate regulatory oversight. With the exception of the NDA and SDA, the end state would be the release of the WVDP Project Premises and Center under restricted conditions. However, unimpacted and/or remediated areas of the Center could be considered for release without restrictions. DOE also intends to evaluate the need for new onsite interim HLW storage that may be required to support timely completion of this alternative.

Alternative 4—Monitor and Maintain under Current Operations

This alternative involves the continued management and oversight of the Center and all facilities located upon the Center property, including the WVDP, after DOE's implementation of its Record of Decision for the WVDP Waste Management EIS. No decommissioning decisions would be made nor actions taken to make progress toward decommissioning, including decontamination beyond the scope that DOE is currently performing. No facilities would be closed in place, but would be left in their current configuration and actively monitored and maintained as required by existing regulations to protect public, worker, and environmental health and safety. When required, remedial actions would be taken in response to any releases of contamination into the environment that may present a health and safety risk, such as would be experienced from the eventual failure of the underground HLW storage tanks. Under this alternative, no portion of the Project Premises or the Center would be released for any present or future use.

Alternative 5—No Action (Walk Away)

This alternative involves the cessation of all management and oversight of the Center and all facilities located upon the Center property, including the WVDP, immediately after implementation of DOE's Record of Decision for the WVDP Waste Management EIS. The Process Building, Waste Tank Farm, Vitrification Facility, North Plateau groundwater plume, NDA, SDA, and other smaller facilities would remain and would not be monitored or maintained. Unmitigated natural processes, including erosion, groundwater transport of contamination, and concrete degradation, would be assumed to occur. The purpose of evaluating this alternative is to establish the basis against which the environmental impacts from all other decommissioning and/or long-term stewardship alternatives are compared.

Alternatives Considered But Eliminated From Further Evaluation

DOE does not consider the use of existing structures or construction of new aboveground facilities at the WVDP for indefinite storage of Project and non-Project LLW and mixed low-level waste (MLLW) to be a reasonable alternative for further consideration. Under the Waste Management Programmatic Environmental Impact Statement (WMPEIS, DOE/EIS-0200-F) Record of Decision, DOE decided that sites such as the WVDP would ship their LLW and MLLW to other DOE sites that have disposal capabilities for these wastes. (This decision did not preclude the use of commercial disposal facilities as well.) The construction, subsequent maintenance, and periodic replacement over time of new facilities for indefinite onsite waste storage at West Valley would be impractical from a cost, programmatic, health, and environmental standpoint. Thus, given the capacity to safely and permanently disposition LLW and MLLW in available off site facilities, DOE would not consider indefinite onsite waste storage in new or existing facilities to be a viable waste management alternative for its decommissioning actions at the WVDP. For similar reasons, NYSERDA would use available commercial facilities for disposal of any non-Project LLW and MLLW that it may generate, in lieu of incurring the costs of new construction.

New Information To Be Evaluated

As discussed above, the NRC published its Final Policy Statement prescribing decommissioning criteria for the WVDP on February 1, 2002, stating that NRC intends to apply its License Termination Rule (10 CFR 20.1401 et seq.) as decommissioning criteria in assessing the health and environmental impacts of decommissioning the WVDP facilities. DOE and NYSERDA will utilize the NRC's Final Policy Statement and the License Termination Rule as the benchmark to develop and analyze their decommissioning alternatives in the Decommissioning and/or Long-Term Stewardship EIS.

For the 1996 Draft Cleanup and Closure EIS, DOE and NYSERDA developed or modified a variety of analytical tools specifically for that document. DOE has continued to refine many of these analytical tools as a result of public comments received on the 1996 Draft Cleanup and Closure EIS and ongoing interactions with stakeholders and regulatory agencies such as the NRC. DOE and NYSERDA intend to apply these improved analytical tools to the preparation of the Decommissioning and/or Long-Term Stewardship EIS. To address significant issues such as erosion, for example, DOE and NYSERDA have developed a site-specific erosion model, with ongoing advice from NRC, and integrated that model into a revised performance assessment methodology, incorporating the use of sensitivity and uncertainty analyses.

There are also some additional areas where new information has or will be obtained specifically for the Decommissioning and/or Long-Term Stewardship EIS. This work includes updated site characterization and census data and the performance of a seismic reflection survey in the vicinity of the Center. This seismic reflection survey, performed in consultation with academic, government, and industry participants, will contribute to knowledge about the regional structural geology as it may relate to the WVDP and the Center.

Additional information that has become available since publication of the 1996 Draft Cleanup and Closure EIS includes DOE's WM PEIS and its associated Records of Decision. The WM PEIS analyzed on a national scale the centralization, regionalization, or decentralization of managing HLW, transuranic waste, low-level radioactive waste, mixed radioactive low-level waste (containing hazardous constituents), and non-wastewater hazardous waste.

Potential Environmental Issues for Analysis

DOE has tentatively identified the following issues for analysis in the Decommissioning and/or Long-Term Stewardship EIS. The list is presented to facilitate early comment on the scope of the EIS. It is not intended to be all-inclusive nor to predetermine the alternatives to be analyzed or their potential impacts.

• Potential impacts to the general population and on-site workers from radiological and non-radiological releases from decommissioning and/or long-term stewardship activities.

• Potential environmental impacts, including air and water quality impacts, caused by decommissioning and/or long-term stewardship activities.

• Potential transportation impacts from shipments of radioactive, hazardous, mixed, and clean waste generated during decommissioning activities.

• Potential impacts from postulated accidents.

• Potential costs for implementation and long-term stewardship of alternatives considered.

• Potential disproportionately high and adverse effects on low-income and minority populations (environmental justice).

• Potential Native American concerns.

• Irretrievable and irreversible commitment of resources.

• Short-term and long-term land use impacts.

• Ability of alternatives to meet the Comprehensive Environmental Response, Compensation and Liability Act risk range.

• Ability of alternatives to satisfy WVDP decommissioning criteria.

• Compliance with applicable Federal, State, and local requirements.

• Identification of Derived Concentration Guideline Limits, where appropriate.

• The influence of, and potential interactions of, any wastes remaining at the Center after decommissioning.

• Unavoidable adverse impacts.

• Issues associated with long-term site stewardship, including regulatory and engineering considerations, institutional controls, and land use restrictions, including the need for buffer areas.

• Long-term health and environmental impacts, including potential impacts on groundwater quality.

• Long-term site stability, including erosion and seismicity.

• Waste Incidental to Reprocessing.

• Disposition of wastes generated as a result of decommissioning and/or long-term stewardship activities.

Other Agency Involvement

Nuclear Regulatory Commission: NRC has the regulatory responsibility under the Atomic Energy Act for the Center, which is the subject of the NRC license issued to NYSERDA pursuant to 10 CFR part 50, with the exception of the SDA. The NRC license is currently in abeyance pending completion of the WVDP.

The WVDP Act specifies certain responsibilities for NRC, including: (1) Prescribing requirements for decontamination and decommissioning; (2) providing review and consultation to DOE on the Project; and (3) monitoring the activities under the Project for the purpose of assuring the public health and safety. NRC will participate as a cooperating agency under NEPA on the West Valley Decommissioning and/or Long-Term Stewardship EIS. NRC may adopt this EIS for determining that the preferred alternative meets NRC's decommissioning criteria, assuming that NRC will find the preferred alternative acceptable.

Notwithstanding the WVDP, NRC retains the regulatory responsibility for the non-DOE activity in the non-Project area and non-SDA area to the extent that contamination exists both on and offsite resulting from activities performed when the facility was operating under its NRC 10 CFR part 50 license. Following completion of the WVDP and reinstatement of the license, NRC will have the regulatory responsibility for authorizing termination of the license, should NYSERDA seek license termination.

United States Environmental Protection Agency: The United States Environmental Protection Agency (USEPA) will participate as a cooperating agency under NEPA on the West Valley Decommissioning and/or Long-Term Stewardship EIS. As a cooperating agency, EPA will review the EIS and other documents developed by DOE in conjunction with NYSERDA to provide early input on the analyses of environmental impacts associated with the decommissioning alternatives to be analyzed.

New York State Department of Environmental Conservation: With respect to DOE proposed actions, NYSDEC will participate as a cooperating agency under NEPA on the West Valley Decommissioning and/or Long-Term Stewardship EIS. As a cooperating agency, NYSDEC will review the EIS and other documents developed by DOE in conjunction with NYSERDA to provide early input on the analyses of environmental impacts associated with the decommissioning alternatives to be analyzed, and as part of their regulatory responsibilities. NYSDEC will participate as an involved agency under SEQRA with respect to NYSERDA's proposed actions.

NYSDEC regulates the SDA through issuance of permits under 6 New York Codes, Rules and Regulations (NYCRR) Part 380 Rules and Regulations for Prevention and Control of Environmental Pollution by Radioactive Materials. NYSDEC also regulates hazardous and mixed waste at the Center pursuant to 6 NYCRR Part 370 Series. This includes permitting activities under Interim Status for RCRA regulated units and Corrective Action Requirements for investigation and if necessary, remediation of hazardous constituents from Solid Waste Management Units.

NYSDEC is also responsible for ensuring compliance with the 1992 joint NYSDEC/USEPA 3008 (h) [New York State Environmental Conservation Law, Article 27, Titles 9 and 13] Order issued to the DOE and NYSERDA. The Order required investigation of solid waste management units, performance of interim corrective measures, and completion of Corrective Measures Studies, if necessary. NYSDEC and EPA intend to accommodate the DOE's and NYSERDA's efforts to coordinate and integrate the EIS process pursuant to the Order.

Public Scoping Meetings

DOE and NYSERDA will hold two public scoping meetings on the Decommissioning and/or Long-Term Stewardship EIS at the Ashford Office Complex, located at 9030 Route 219 in the Town of Ashford, NY, from 7 to 9:30 p.m. on April 9 and April 10, 2003. The purpose of scoping is to encourage public involvement and solicit public comments on the proposed scope and content of the EIS. Requests to speak at the public meeting should be made by calling or writing the DOE Document Manager (see ADDRESSES, above). Speakers will be scheduled on a first-come, first-served basis. Individuals may sign up at the door to speak and will be accommodated as time permits. Written comments will also be accepted at the meeting. Speakers are encouraged to provide written versions of their oral comments for the record.

The meetings will be facilitated by a moderator. Time will be provided for meeting attendees to ask clarifying questions. Individuals requesting to speak on behalf of an organization must identify the organization. Each speaker will be allowed five minutes to present comments unless more time is requested and available. Comments will be recorded by a court reporter and will become part of the scoping meeting record.

These two public scoping meetings will be held during a public scoping comment period. The comment period begins with publication of this NOI and will formally close on April 28, 2003. Comments received after this date will be considered to the extent practical. Comments provided during scoping will be addressed in the revised draft Decommissioning and/or Long-Term Stewardship EIS. Written comments will be received during the scoping period either in writing, by facsimile, or by email to Mr. Daniel Sullivan, DOE Document Manager (see ADDRESSES, above, for contact information).

Schedule

The DOE intends to issue the draft Decommissioning and/or Long-Term Stewardship EIS as early as December 2003. A public comment period of up to 180 days will start upon publication of the EPA's Federal Register Notice of Availability. DOE will consider and respond to comments received on the draft Decommissioning and/or Long-Term Stewardship EIS in preparing the final EIS.

Comments received during the 1989 scoping process and from the public comment period on the 1996 Cleanup and Closure EIS (DOE/EIS-0226-D) will be considered in the Decommissioning and/or Long-Term Stewardship EIS.

Public Reading Rooms

Documents referenced in this Notice of Intent and related information are available at the following locations: Central Buffalo Public Library Science and Technology Department, Lafayette Square, Buffalo, New York 14203, (716) 858-7098; The Olean Public Library, 134 North 2nd Street, Olean, New York 14760, (716) 372-0200; The Hulbert Library of the Town of Concord, 18 Chapel Street, Springville, New York 14141, (716) 592-7742; West Valley Central School Library, 5359 School Street, West Valley, New York 14141, (716) 942-3261; Ashford Office Complex, 9030 Route 219, West Valley, New York 14171, (716) 942-4555.

Issued in Washington, DC on March 7, 2003.
Beverly A. Cook,
Assistant Secretary, Environment, Safety and Health.

[FR Doc. 03-6055 Filed 3-12-03; 8:45 am]

BILLING CODE 6450-01-P